DEPARTMENT OF STATE

[Public Notice 5826]

Federal Advisory Committee on Transformational Diplomacy; Notice of Meeting

The Secretary of State's Advisory Committee on Transformational Diplomacy will conduct and open meeting on Wednesday, July 11, 2007, from 8 a.m. to 10:15 a.m. in Room 7516 H St., U.S. Department of State, 2201 C Street, NW., Washington, DC. The purpose of this meeting is to review and approve the report of recommendations that the Committee will submit to the Secretary.

The provisional agenda calls for the committee to consider a draft report on recommendations and to amend the report as necessary. The agenda also calls for the adoption of the report in final form.

This meeting is open to the public from 8 a.m. until 10:15 a.m. as seating capacity allows. The Committee will meet in closed session from 10:30 a.m. until 11:20 a.m. to receive a briefing that includes classified information and information related solely to the Department's internal personnel rules and practices. It has been determined that this portion of the meeting will be closed to the public pursuant to Section 10(d) of the Federal Advisory Committee Act and 5 U.S.C. 552b[c][1] and 5 U.S.C. 552b[c][2].

Entry to the building is controlled; to obtain pre-clearance for entry, members of the public (including government employees and Department of State employees) planning to attend should provide by no later than July 6, 2007, their name; place of birth and date of birth; citizenship (country); ID number, i.e., U.S. government ID (agency), U.S. military ID (branch), passport (country), or drivers license number (state); professional affiliation, address, and telephone number to Carlene Roy by fax (202) 647-2524, e-mail (royc@state.gov), or telephone (202) 647-0093. Members of the public also may file a written statement with the committee.

One of the following valid photo IDs will be required for admittance to the State Department building: U.S. driver's license, passport, or U.S. Government agency ID. Members of the public must use the “C” Street entrance, after going through the exterior screening facilities. Due to escorting requirements, attendees should arrive 15 minutes before the meeting begins.

Dated: June 7, 2007.
Marguerite Coffey,
Managing Director, Office of Management Policy, Department of State.

[FR Doc. E7-12123 Filed 6-21-07; 8:45 am]

BILLING CODE 4710-01-P